DEPARTMENT OF AGRICULTURE

Office of the Secretary

Notice of the Forestry Research Advisory Council Meeting

AGENCY: Research, Education, and Economics, USDA.

ACTION: Notice of meeting.

SUMMARY: In accordance with the Federal Advisory Committee Act, 5 U.S.C. App 2, the United States Department of Agriculture announces a meeting of the Forestry Research Advisory Council. The meeting will be open to the public.

DATES: The Forestry Research Advisory Council will meet on August 25, 2004, from 8:30 a.m. to 4 p.m., and on August 26, 2004, from 8 a.m. to noon. A complete agenda will be available prior to the meeting. To obtain a copy call the Contact Person identified below.

ADDRESSES: The meeting will take place at the Mandarin Oriental Hotel, Portrait Conference Room, 1330 Maryland Avenue, SW., Washington, DC 20024.

FOR FURTHER INFORMATION CONTACT: Catalino A. Blanche, FRAC Coordinator, Mail Stop 2210, 1400 Independence Avenue, SW., Washington, DC 20250; telephone: (202) 401-4190; fax: (202) 401-1706; e-mail: cblanche@csrees.usda.gov.

SUPPLEMENTARY INFORMATION: Section 1441(C) of the Agriculture and Food Act of 1981 requires the establishment of the Forestry Research Advisory Council to provide advice to the Secretary of Agriculture on accomplishing efficiently the purposes of the Act of October 10, 1962 ( 16 U.S.C. 582a, et seq.), known as the McIntire-Stennis Act of 1962. The Council also provides advice related to the Forest Service research program, authorized by the Forest and Rangeland Renewable Resources Research Act of 1978 (Pub. L. 95-307, 92 Stat. 353, as amended; 16 U.S.C. 1600 (note)). The Council is composed of 20 voting members from: federal and state agencies, forest industries, forestry schools and state agricultural experiment stations, and volunteer public groups.

The purposes of the meeting are: (a) To hear reports from the Forest Service, USDA, Cooperative State Research, Education and Extension Service, USDA, forest industries, the National Association of Professional Forestry Schools and Colleges, and (b) to formulate advice on Federal and state forestry research for the Secretary of Agriculture.

Done at Washington, DC this 27th day of July, 2004.
Joseph J. Jen,
Under Secretary, Research, Education, and Economics.

[FR Doc. 04-17625 Filed 8-2-04; 8:45 am]

BILLING CODE 3410-22-P